NUCLEAR REGULATORY COMMISSION

[Docket No. 50-005; NRC-2009-0495]

Pennsylvania State University: Penn State Breazeale Reactor; Environmental Assessment and Finding of No Significant Impact; Correction

AGENCY: Nuclear Regulatory Commission.

ACTION: Notice of Environmental Assessment and Finding of No Significant Impact; Correction.

SUMMARY: This document corrects a notice appearing in the Federal Register on November 12, 2009 (74 FR 58319), that considers issuance of a renewal of Facility Operating License No. R-2, to be held by Pennsylvania State University. This action is necessary to correct a typographical error where the International System of Units symbol for the prefix “micro” (μ) was incorrectly displayed as ± and ±m.

FOR FURTHER INFORMATION CONTACT: Linh Tran, Senior Project Manager, Research and Test Reactors Branch A, Division of Policy and Rulemaking, Office of Nuclear Reactor Regulation, U.S. Nuclear Regulatory Commission, telephone (301) 415-4103, e-mail Linh.Tran@nrc.gov.

SUPPLEMENTARY INFORMATION: In FR doc. E9-27282, published on November 12, 2009, make the following corrections:

1. On page 58320, in the second column, under the headings I. Radiological Impact Environmental Effects of Reactor Operations, the fifth sentence is corrected to read as follows:

Licensee calculations, based on those measurements, indicate that annual Argon-41 releases result in an offsite concentration of 3.2E-10 microCuries per milliliter (μCi/ml), which is below the limit of 1.0E-8 μCi/ml specified in 10 CFR Part 20, Appendix B for air effluent releases.

2. On page 58320, in the third column, first complete paragraph, the seventh and eighth sentences are corrected to read as follows:

According to the licensee, the leakage resulted in the release of approximately 1.3 milliCuries of tritium, at a concentration of 2.8E-5 μCi/ml. This concentration is a fraction of the limit of 1E-3 μCi/ml specified in 10 CFR Part 20, Appendix B for liquid effluents.

Dated at Rockville, Maryland, this 16th day of November 2009.
For the Nuclear Regulatory Commission.
Michael T. Lesar,
Liaison Officer, Nuclear Regulatory Commission.

[FR Doc. E9-27912 Filed 11-19-09; 8:45 am]

BILLING CODE 7590-01-P